DEPARTMENT OF HEALTH AND HUMAN SERVICES

Administration for Children and Families

Submission for OMB Review; Comment Request

Title: Refugee Data Submission System for Formula Funds Allocation—ORR-5.

OMB No.: 0970-0043.

Description: The information collection, Refugee Data Submission System for Formula Funds Allocations, (ORR-5) satisfies the statutory requirements of the Immigration and Nationality Act (INA). Section 412(a)(3) of the Act requires the Director of the Office of Refugee Resettlement (ORR) to make a periodic assessment, based on refugee population and other relevant factors, of the relative needs of refugees for assistance and services and the resources available to meet those needs. This includes compiling and maintaining data on the secondary migration of refugees within the United States after arrival. Further, INA 412(c)(1)(B) states that formula funds shall be allocated based on the total number of refugees, taking into account secondary migration.

Respondents: States or replacement designees.

Annual Burden Estimates
Instrument | Number of respondents | Number of responses per respondent | Average burden hours per response | Total burden hours
ORR-5 Form | 50 | 1 | 22 | 1,100

Estimated Total Annual Burden Hours: 1,100.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families

Robert Sargis,
Reports Clearance Officer.

[FR Doc. 2017-19467 Filed 9-13-17; 8:45 am]

BILLING CODE 4184-01-P